NATIONAL TRANSPORTATION SAFETY BOARD

Sunshine Act Meeting

Agenda

TIME AND DATE: 9:30 a.m., Tuesday, October 18, 2016.

PLACE: NTSB Conference Center, 429 L'Enfant Plaza SW., Washington, DC 20594.

STATUS: The one item is open to the public.

MATTERS TO BE CONSIDERED:

8741A Aircraft Accident Report—Crash During Nonprecision Instrument Approach to Landing, British Aerospace HS 125-700A, N237WR, Akron, Ohio, November 10, 2015 (CEN16MA036)

NEWS MEDIA CONTACT: Telephone: (202) 314-6100.

The press and public may enter the NTSB Conference Center one hour prior to the meeting for set up and seating.

Individuals requesting specific accommodations should contact Rochelle Hall at (202) 314-6305 or by email at Rochelle.Hall@ntsb.gov by Wednesday, October 11, 2016.

The public may view the meeting via a live or archived webcast by accessing a link under “News & Events” on the NTSB home page at www.ntsb.gov.

Schedule updates, including weather-related cancellations, are also available at www.ntsb.gov.

FOR MORE INFORMATION CONTACT: Candi Bing at (202) 314-6403 or by email at bingc@ntsb.gov.

FOR MEDIA INFORMATION CONTACT: Terry Williams at (202) 314-6100 or by email at terry.williams@ntsb.gov.

Dated: Thursday, September 29, 2016.
Candi R. Bing,
Federal Register Liaison Officer.

[FR Doc. 2016-24090 Filed 9-30-16; 4:15 pm]

BILLING CODE 7533-01-P